ENVIRONMENTAL PROTECTION AGENCY

40 CFR Part 52

[KY145-200339(b); FRL-7582-5]

Approval and Promulgation of Implementation Plans for Kentucky; Permit Provisions for Jefferson County, KY

AGENCY: Environmental Protection Agency (EPA).

ACTION: Proposed rule.

SUMMARY: EPA is proposing to approve a revision to the Jefferson County, Kentucky portion of the Kentucky State Implementation Plan (SIP) which amends four regulations of the Metro Louisville Air Pollution Control District (MLAPCD). The four MLAPCD regulations being revised are: Regulation 1.08, “Administrative Procedures,” Regulation 2.05, “Prevention of Significant Deterioration of Air Quality,” Regulation 2.09, “Causes for Permit Modification, Revocation, or Suspension,” and Regulation 2.17, “Federally Enforceable District Origin Operating Permits.” In the Final Rules Section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before December 3, 2003.

ADDRESSES: Comments may be submitted by mail to: Michele Notarianni, Air Planning Branch, Air, Pesticides and Toxics Management Division, U.S. Environmental Protection Agency Region 4, 61 Forsyth Street, SW., Atlanta, Georgia 30303-8960. Comments may also be submitted electronically, or through hand delivery/courier. Please follow the detailed instructions described in the direct final rule, SUPPLEMENTARY INFORMATION (sections I. B.1. through 3.), which is published in the Rules Section of this Federal Register

FOR FURTHER INFORMATION CONTACT: Michele Notarianni, Air Planning Branch, Air, Pesticides and Toxics Management Division, U.S. Environmental Protection Agency Region 4, 61 Forsyth Street, SW., Atlanta, Georgia 30303-8960. Phone: (404) 562-9031. E-mail: notarianni.michele@epa.gov.

SUPPLEMENTARY INFORMATION: For additional information, see the direct final rule which is published in the Rules Section of this Federal Register.

Dated: October 21, 2003.
A. Stanley Meiburg,
Acting Regional Administrator, Region 4.

[FR Doc. 03-27552 Filed 10-31-03; 8:45 am]

BILLING CODE 6560-50-P